DEPARTMENT OF ENERGY

Federal Energy Regulatory Commission

Notice of Post-Certificate Environmental Compliance and Environmental Report Preparation Training Seminars

November 15, 2001.

The Office of Energy Projects (OEP) staff will conduct the first of five sessions of its Post-Certificate Environmental Compliance Seminar on December 12 and 13, 200 and the remaining four, as well as five sessions of the Environmental Report Preparation Seminar, throughout 2002. Last offered in 1998, these seminars have been updated to reflect recent regulatory changes and to open for discussion state-of-the-industry advances in compliance management techniques. The format of both seminars has also been revised to include interactive training techniques and increased audience participation. The training seminars will be delivered by FERC staff and consultants with significant industry experience.

Details on the content of both seminars and the scheduled training locations are provided below. For more information for the courses visit the FERC website at http://www.ferc.gov/industry_seminars_home.htm and to register for the courses, visit the web site for these training sessions at www.ferc-envtraining.com or call (650) 712-6610. Registration for each course will be limited; so, although there is no charge for the course, all participants must register in advance.

Post-Certificate Environmental Compliance (2-Day Seminar)

This two-day seminar will cover the FERC's post-certificate regulatory process and construction and restoration requirements. The seminar will provide each trainee with knowledge of the basic environmental requirements of most FERC certificates and will address the following compliance topics:

• Preconstruction planning

• Post-certificate filings, including cultural resources requirements, implementation plan, threaten and endangered species

• Waterbody crossings

• Wetland construction

• Erosion control

• Residential construction

• Agricultural mitigation

• Variance procedures

• Right-of-way restoration and post-construction activities

Before each morning of the seminar, we will also offer an “early-bird” session on Pipeline Construction (Day 1) and Effective Communications (Day 2) for those participants who fell they would benefit. Participants must register for these early-bird sessions when registering for the seminar. The Pipeline Construction session will be for those who are inexperienced in basic pipeline construction practices. The Effective Communications session will discuss how the Environmental Inspector and project representatives may best keep themselves, agencies, and construction contractors informed of the status of the project and various regulatory requirements to avoid misunderstandings to the extent possible.

At the training seminar, we will present updates that are under consideration for the Upland Erosion Control, Revegetation, and Maintenance Plan (Plan) and the Wetland and Waterbody Construction and Mitigation Procedures (Procedures). Seminar participants will have the opportunity to provide input and comment on the proposed updates. We will also issue separate notice of these potential changes for the general public and the regulated industry to comment on outside of the training venue.

Registered participants will receive a certificate of attendance at the end of the session and an updated copy of the Natural Gas Pipeline Environmental Compliance Workbook.

The December, 2001, Post-Certificate Environmental Compliance Seminar will be held in Houston, Texas at the Sheraton North, 15700 John F. Kennedy Blvd. Participants must register for this course by December 1. Additional courses will be held as shown on the attached table. More information on these future courses will be posted on the website in January 2002.

Environmental Report Preparation

This seminar will discuss the environmental documentation required for certificate applications prepared under subpart A of 18 CFR 157 and sections 7(a), 7(b), and 7(c) of the Natural Gas Act (NGA), subpart F blanket projects, and section 2.55 replacements. The seminar will assist each trainee in preparing the environmental report required for filing with FERC applications for project construction or abandonment. The presentation will address the information necessary to meet the FERC's minimum filing requirements and will cover the following topics:

• General Project Description

• Water Use and Quality

• Fish, Wildlife, and Vegetation

• Cultural Resources

• Socioeconomic and Environmental Justice

• Geological Resources

• Soils

• Land Use, Recreation and Aesthetics

• Air and Noise Quality

• Alternatives

• Reliability and Safety

• PCB Contamination

• Information Related to LNG Facilities

• Landowner Notification

The seminar will also include a discussion of the FERC's efforts to enhance stakeholder involvement during the pre-filing process which potentially includes beginning the National Environmental Policy Act process during the development stage of a project. Participants will receive a certificate of attendance at the end of the session and an updated copy of the Guidance Manual for Environmental Report Preparation.

The Environmental Report Preparation Seminars will be held as shown on the attached table. More information on these future courses will be posted on the website in January 2002.

David P. Boergers,
Secretary.

Schedule of Training Semianrs
(FY 2001-2002)
Dates | Location | Seminar
December 12-13 | Houston | Compliance.
March | Las Vegas | Compliance.
April | Atlanta | Compliance ER Preparation.
May | Hartford | Compliance ER Preparation.
June | Salt Lake | ER Preparation.
August | Houston | ER Preparation.
September | St. Louis | Compliance; ER Preparation.

[FR Doc. 01-29071 Filed 11-20-01; 8:45 am]

BILLING CODE 6717-01-P